DEPARTMENT OF JUSTICE

Antitrust Division

Notice Pursuant to The National Cooperative Research and Production Act of 1993—Space Enterprise Consortium

Notice is hereby given that, on February 1, 2021, pursuant to Section 6(a) of the National Cooperative Research and Production Act of 1993, 15 U.S.C. 4301 et seq. (“the Act”), Space Enterprise Consortium (“SpEC”) has filed written notifications simultaneously with the Attorney General and the Federal Trade Commission disclosing changes in its membership. The notifications were filed for the purpose of extending the Act's provisions limiting the recovery of antitrust plaintiffs to actual damages under specified circumstances. Specifically, 202 Group, LLC, Washington, DC; Adaptive Optics Associates, Inc., Devens, MA; Addx Corporation, Alexandria, VA; ADNET Systems, Inc., Bethesda, MD; Alluvionic, Inc., Melbourne, FL; Altagrove LLC, Herndon, VA; Atomos Nuclear and Space Corporation, Denver, CO; Batelle Memorial Institute, Columbus, OH; Caliola Engineering, LLC, Colorado Springs, CO; Celeris Systems, Inc., Anaheim, CA; ClimaCell, Inc., Boston, MA; Constellation Software Engineering Corp., Annapolis, MD; Constellation Technologies, Inc., Severn, MD; DornerWorks, Ltd., Grand Rapids, MI; Edison Welding Institute, Inc. (DBA EWI), Columbus, OH; Export Compliance Connections, Maineville, OH; Integral & Open Systems, Inc., Ypsilanti, MI; Integrity Communications Solutions, Colorado Springs, CO; Jeffrey Okamitsu dba Blue Force Consulting, Westminster, MD; L2 Aerospace LLC, Melbourne, FL; Launchspace Technologies Corporation, Fort Myers, FL; Lynk Global, Inc., Falls Church, VA; Moog, Inc. (Moog Broad Reach), Gilbert, AZ; Moog, Inc. (Moog CSA Business Unit), Mountain View, CA; Nebula Space Enterprise, Inc., San Diego, CA; Novetta, Inc., McLean, VA; Persistant Systems LLC, New York, NY; Qwest Government Services, Inc. dba Century Link QGS, Herndon, MD; SaraniaSAT, Inc., Tujunga, CA; Space Domain Awareness, Inc., Orlando, FL; Sphinx Defense, Inc., Washington, DC; The JAAW Group LLC, Cottonwood Heights, UT; Ultool, LLC, Duluth, GA; Verizon Business Network Services, Inc., Ashburn, VA; Virginia Systems and Technology, Inc., Warrenton, VA; and Willowview Consulting, LLC, Eagle, MD have been added as parties to this venture.

Also, Alliance Technology Group, Hanover, MD; Carahsoft Technology Corp., Reston, VA; and Rockwell Collins, Cedar Rapids, IA have withdrawn as parties to this venture.

No other changes have been made in either the membership or planned activity of the group research project. Membership in this group research project remains open, and SpEC intends to file additional written notifications disclosing all changes in membership.

On August 23, 2018, SpEC filed its original notification pursuant to Section 6(a) of the Act. The Department of Justice published a notice in the Federal Register pursuant to Section 6(b) of the Act on October 2, 2018 (83 FR 49576).

The last notification was filed with the Department on October 27, 2020. A notice was published in the Federal Register pursuant to Section 6(b) of the Act on November 20, 2020 (85 FR 74385).

Suzanne Morris,
Chief, Premerger and Division Statistics, Antitrust Division.

[FR Doc. 2021-02945 Filed 2-11-21; 8:45 am]

BILLING CODE P